DEPARTMENT OF STATE

[Public Notice 4485]

Advisory Panel to the United States Section of the North Pacific Anadromous Fish Commission; Notice of a Closed Meeting

The Advisory Panel to the United States Section of the North Pacific Anadromous Fish Commission will meet on October 26, 2003, at the Hawaii Convention Center in Honolulu, Hawaii. This session will involve discussion of the Eleventh Annual Meeting of the North Pacific Anadromous Fish Commission, to be held on October 26-31, 2003, in Honolulu, Hawaii. The discussion will begin at 8 a.m. and is closed to the public.

The members of the Advisory Panel will examine various options for the U.S. position at the Eleventh Annual Meeting. These considerations must necessarily involve review of sensitive matters, the premature disclosure of which would be likely to significantly frustrate implementation of proposed State Department action and U.S. participation at the Annual Meeting. Accordingly, the determination has been made to close the 8:00 a.m. meeting pursuant to section 10(d) of the Federal Advisory Committee Act and 5 U.S.C. 552(c)(9).

Requests for further information on the meeting should be directed to Dr. Dorothy Zbicz, Office of Marine Conservation (OES/OMC), Room 5806, U.S. Department of State, Washington, DC 20520-7818. Dr. Zbicz can be reached by telephone on (202) 647-3073 or by FAX (202) 736-7350.

David A. Balton,
Deputy Assistant Secretary for Oceans and Fisheries, Department of State.

[FR Doc. 03-25887 Filed 10-9-03; 8:45 am]

BILLING CODE 4710-09-P